DEPARTMENT OF HOUSING AND URBAN DEVELOPMENT

[Docket No. FR-5121-N-28]

Notice of Proposed Information Collection: Comment Request; Housing Counseling Program—Application for Approval as a Housing Counseling Agency

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: October 22, 2007.

ADDRESSES: Interested persons are invited to submit comments regarding this proposal. Comments should refer to the proposal by name and/or OMB Control Number and should be sent to: Lillian L. Deitzer, Reports Management Officer, Department of Housing and Urban Development, 451 7th Street, SW., L'Enfant Plaza Building, Room 8001, Washington, DC 20410 or Lillian.L.Deitzer@hud.gov.

FOR FURTHER INFORMATION CONTACT: Virginia Simmons, Office of Single Family Program Development, Department of Housing and Urban Development, 451 7th Street, SW., Washington, DC 20410, telephone (202) 708-2298 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of proposal: Housing Counseling Program—Application for Approval as a Housing Counseling Agency.

OMB Control Number, if applicable: 2502-NEW.

Description of the need for the information and proposed use: National, regional, Multi-State intermediaries and Local public and private nonprofit agencies that provide housing counseling services directly or through their affiliates or branches regarding home buying, homeownership and rental housing programs submit an application for designation as a HUD-approved housing counseling agency. HUD uses the information to evaluate the agency and to populate Agency profile data in the Housing Counseling System (HCS) database. This data populates HUD's Web site and automated 1-800 hotline.

Agency form numbers, if applicable: HUD-9900.

Estimation of the total numbers of hours needed to prepare the information collection including number of respondents, frequency of response, and hours of response: The number of respondents is 200, the frequency of responses is on occasion, for a total of 200 total annual responses. The estimated time to prepare collection is approximately 8 hours, for a total annual burden hours of 1,600 hours.

Status of the proposed information collection: This is a request for a new information collection. The information collection was previously approved under OMB Control No. 2502-0261.

Authority: The Paperwork Reduction Act of 1995, 44 U.S.C., Chapter 35, as amended.

Dated: August 13, 2007.
Frank L. Davis,
General Deputy Assistant Secretary for Housing-Deputy Federal Housing Commissioner.

[FR Doc. E7-16637 Filed 8-22-07; 8:45 am]

BILLING CODE 4210-67-P